OFFICE OF NATIONAL DRUG CONTROL POLICY

Meeting of the Advisory Commission on Drug Free Communities

AGENCY: Office of National Drug Control Policy.

ACTION: Notice of meeting.

SUMMARY: The Advisory Commission on Drug Free Communities will hold a regularly scheduled meeting on April 20th and 21st. The Commission provides recommendations to the Director concerning the development and evaluation of community anti-drug coalitions. The agenda includes a presentation on coalition sustainability, the role of the National Anti-Drug Coalition Institute's Training and Technical Assistance in coalition sustainability, and the effective and potential uses of community sectors.

DATES: The meeting will be held at noon through 5:30 p.m. Tuesday, April 20, 2004 and continue from 8:30 a.m. through 3 p.m. on Wednesday, April 21, 2004. There will be an opportunity for public comment from 11:30 p.m. to noon on Wednesday, April 21, 2004.

ADDRESSES: The meeting will held at the Office of National Drug Control Policy, 750 17th Street, NW., 5th Floor Conference Room, Washington, DC.

FOR FURTHER INFORMATION CONTACT: Sigrid Melus, (202) 395-5016.

Dated: March 18, 2004.
Daniel R. Petersen,
Assistant General Counsel.

[FR Doc. 04-6434 Filed 3-26-04; 8:45 am]

BILLING CODE 3180-02-M